DEPARTMENT OF TRANSPORTATION

Surface Transportation Board

[STB Finance Docket No. 33855]

Mohall Railroad, Inc.—Acquisition and Operation Exemption—Line of The Burlington Northern and Santa Fe Railway Company

Mohall Railroad, Inc. (MRI), a noncarrier, has filed a verified notice of exemption under 49 CFR 1150.31 to acquire (by purchase) and operate approximately 42.55 miles of rail line, known as the Mohall Line,¹ owned by The Burlington Northern and Santa Fe Railway Company (BNSF) ² between milepost 5.25 north of Granville, ND, and milepost 47.8 near Mohall, ND, together with associated spur tracks and sidings.³

¹ The line is currently embargoed due to track conditions.

² MRI states that, on November 22, 1999, an agreement was signed between it and BNSF for the sale of certain assets, rights and obligations for the line and that it will assume full common carrier responsibility and maintenance of the line as soon as the exemption becomes effective and the transaction is closed.

³ MRI certifies that its projected revenues as a result of this transaction will not exceed those that would qualify it as a Class III rail carrier.

The purpose of this transaction is to permit MRI to assume responsibility for providing rail service to the two presently active shippers located at Mohall and Lansford, ND, and any other parties desiring rail service by entering into an operating agreement with Northern Plains Railroad (NPR), which currently operates a line of railroad through Lansford. MRI indicates that its acquisition of the Mohall line will not result in significant changes in carrier operations, except to the extent that rail operations will be resumed over lines currently embargoed. MRI states that it will construct a new connection between NPR and the Mohall Line at Lansford, and will undertake to perform the necessary maintenance and rehabilitation work to place the trackage in condition for resumption of safe railroad operations.

MRI reports that it intends to consummate the transaction upon the effective date of the exemption. The earliest the transaction could be consummated was March 13, 2000 (7 days after the exemption was filed).

If the notice contains false or misleading information, the exemption is void ab initio. Petitions to revoke the exemption under 49 U.S.C. 10502(d) may be filed at any time. The filing of a petition to revoke will not automatically stay the transaction.

An original and 10 copies of all pleadings, referring to STB Finance Docket No. 33855, must be filed with the Surface Transportation Board, Office of the Secretary, Case Control Unit, 1925 K Street, NW, Washington, DC 20423-0001. In addition, one copy of each pleading must be served on Byron D. Olsen, Felhaber, Larson, Fenlon & Vogt, P.A., 601 Second Avenue South, Suite 4200, Minneapolis, MN 55402.

Board decisions and notices are available on our website at “WWW.STB.DOT.GOV.”

Decided: March 24, 2000.
By the Board, David M. Konschnik, Director, Office of Proceedings.
Vernon A. Williams,
Secretary.

[FR Doc. 00-7917 Filed 3-30-00; 8:45 am]

BILLING CODE 4915-00-P